DEPARTMENT OF ENERGY

Federal Energy Regulatory Commission

[Docket Nos. CP03-342-001 and CP03-343-001]

Discovery Gas Transmission LLC, Discovery Producer Services LLC; Notice of Amendments

January 9, 2004.

Take notice that Discovery Gas Transmission LLC (Discovery), 2800 Post Oak Blvd., Houston, Texas, 77056, filed in Docket No. CP03-342-001 on December 30, 2003, pursuant to section 7(C) of the Natural Gas Act (NGA), as amended, and part 157 of the Commission's regulations an amendment to its application for certificate authorization for Discovery's Market Expansion Project. In conjunction with this filing, Discovery Producer Services LLC (DPS) filed, in Docket No. CP03-343-001, an amendment to its application for a limited jurisdiction certificate to provide compression services to Discovery's Market Expansion Project. Discovery amends its Market Expansion Project application to adjust a portion of the route of its proposed pipeline to the proposed interconnection with Columbia Gulf Transmission Company (Columbia Gulf) in response to landowner concerns, to restate its proposed initial rates, and to revise its pro forma tariff to clarify that any commitments to deliver gas to the new delivery point at Transcontinental Gas Pipe Line Corporation (Transco) is subject to Discovery's lease of capacity from Texas Eastern Transmission, LP. In addition, DPS is amending its Compression Services Agreement with Discovery to cover the cost of some piping, valves and other miscellaneous items that will need to be constructed by DPS at the Larose gas processing plant, all as more fully set forth in the application which is on file with the Commission and open to public inspection. These filings may be also viewed on the Web at http://www.ferc.gov using the “eLibrary” link. Enter the docket number excluding the last three digits in the docket number field to access the document. For assistance, call (202) 502-8222 or TTY, (202) 208-1659.

Any questions regarding the amendment applications should be directed to Kevin R. Rehm, Vice President, Discovery Gas Transmission LLC, 2800 Post Oak Boulevard—Level 36, Houston, Texas 77056, at (713) 215-2694, with fax at (713) 215-3050.

There are two ways to become involved in the Commission's review of this project. First, any person wishing to obtain legal status by becoming a party to the proceedings for this project should, on or before January 29, 2004, file with the Federal Energy Regulatory Commission, 888 First Street, NE., Washington, DC 20426, a motion to intervene in accordance with the requirements of the Commission's rules of practice and procedure (18 CFR 385.214 or 385.211) and the regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments, protests and interventions may be filed electronically via the Internet in lieu of paper. See, 18 CFR 385.2001(a)(1)(iii) and the instructions on the Commission's Web site under the “e-Filing” link.

Magalie R. Salas,
Secretary.

[FR Doc. E4-77 Filed 01-15-04; 8:45 am]

BILLING CODE 6717-01-P